DEPARTMENT OF THE INTERIOR

National Park Service

[NPS-WASO-NAGPRA-10744; 2200-1100-665]

Notice of Inventory Completion: New York University College of Dentistry, New York, NY; Correction

AGENCY: National Park Service, Interior.

ACTION: Notice; correction.

Notice is here given in accordance with the Native American Graves Protection and Repatriation Act (NAGPRA), 25 U.S.C. 3003, of the completion of an inventory of human remains under the control of the New York University College of Dentistry, New York, NY. The human remains were removed from Bronx County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the name of a culturally affiliated tribe in a Notice of Inventory Completion published in the Federal Register (74 FR 42106-42107, August 20, 2009). The Delaware Tribe of Indians, Oklahoma, received Federal recognition on July 28, 2009, after the notice was signed by the National NAGPRA Program, but before the notice was published.

In the Federal Register (74 FR 42106-42107, August 20, 2009), paragraph three is corrected by substituting the following paragraph:

A detailed assessment of the human remains was made by New York University College of Dentistry professional staff in consultation with representatives of the Delaware Nation of Oklahoma; Delaware Tribe of Indians, Oklahoma; and Stockbridge Munsee Community, Wisconsin.

In the Federal Register (74 FR 42106-42107, August 20, 2009), paragraph five, sentences 10-11 are corrected by substituting the following sentences:

Today, these groups are known as the Delaware Nation of Oklahoma and the Delaware Tribe of Indians, Oklahoma. Consultation evidence supports the identification of remains from the Broadway and Isham Streets site as Munsee and the cultural affiliation of the remains as the Delaware Nation of Oklahoma; Delaware Tribe of Indians, Oklahoma; and Stockbridge Munsee Community, Wisconsin.

In the Federal Register (74 FR 42106-42107, August 20, 2009), paragraph six, sentence two, is corrected by substituting the following sentence:

Officials of New York University College of Dentistry have also determined that, pursuant to 25 U.S.C. 3001(2), there is a relationship of shared group identity that can be reasonably traced between the Native American human remains and the Delaware Nation of Oklahoma; Delaware Tribe of Indians, Oklahoma; and Stockbridge Munsee Community, Wisconsin.

In the Federal Register (74 FR 42106-42107, August 20, 2009), paragraph seven, sentence two, is corrected by substituting the following paragraph:

Repatriation of the human remains to the Delaware Nation of Oklahoma; Delaware Tribe of the Indians, Oklahoma; and Stockbridge Munsee Community, Wisconsin, may proceed after that date if no additional claimants come forward.

Additional Requestors and Disposition

Representatives of any other Indian tribe that believes itself to be culturally affiliated with the human remains should contact Dr. Louis Terracio, New York University College of Dentistry, 345 East 24th St, New York, New York, 10010, telephone 212-998-9917, before August 20, 2012 Repatriation of the human remains to the Delaware Nation of Oklahoma; Delaware Tribe of the Indians, Oklahoma; and Stockbridge Munsee Community, Wisconsin, may proceed after that date if no additional claimants come forward.

The New York University College of Dentistry is responsible for notifying the Delaware Nation of Oklahoma; Delaware Tribe of Indians, Oklahoma; and Stockbridge Munsee Community, Wisconsin, that this notice has been published.

Dated: June 28, 2012.
Sherry Hutt,
Manager, National NAGPRA Program.

[FR Doc. 2012-17618 Filed 7-18-12; 8:45 am]

BILLING CODE 4312-50-P